DEPARTMENT OF ENERGY

Federal Energy Regulatory Commission

[Docket Nos. EL03-40-000 and EL05-51-000 (Not consolidated)]

Wisconsin Public Service Corporation and Midwest Independent Transmission System Operator, Inc.; Notice Shortening Comment Period

July 7, 2005.

On June 29, 2005, Midwest Independent System Operator, Inc., Wisconsin Public Service Corporation and Xcel Energy Services, Inc. filed a Stipulation and Settlement Agreement (Settlement) in the above-docketed proceedings. By this notice, the period for filing comments to the June 29, 2005 Settlement is hereby shortened to and including July 8, 2005. Reply comments are due July 13, 2005.

Magalie R. Salas,
Secretary.

[FR Doc. 05-15384 Filed 8-2-05; 8:45 am]

BILLING CODE 6717-01-U